DEPARTMENT OF HOMELAND SECURITY

Federal Emergency Management Agency

[Docket ID: FEMA-2009-0001]

Agency Information Collection Activities: Submission for OMB Review; Comment Request, OMB No. 1660-NEW; FEMA Preparedness Grants: Urban Areas Security Initiative (UASI) Nonprofit Security Grant Program (NSGP)

AGENCY: Federal Emergency Management Agency, DHS.

ACTION: Notice; 30-day notice and request for comments; new information collection; OMB No. 1660-NEW; FEMA Form 089-25, NSGP Investment Justification and Selection Criteria; FEMA Form 089-24, NSGP State—UAWG Prioritization of Investment Justification.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before April 22, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: FEMA Preparedness Grants: Urban Areas Security Initiative (UASI) Nonprofit Security Grant Program (NSGP).

Type of information collection: New information collection.

OMB Number: 1660-NEW.

Form Titles and Numbers: FEMA Form 089-25, NSGP Investment Justification and Selection Criteria; FEMA Form 089-24, NSGP State—UAWG Prioritization of Investment Justification.

Abstract: The NSGP is an important tool among a comprehensive set of measures to help strengthen the Nation against risks associated with potential terrorist attacks. FEMA uses the information to evaluate applicants' familiarity with the national preparedness architecture and identify how elements of this architecture have been incorporated into regional/State/local planning, operations, and investments. Information collected provides narrative details on proposed activities (Investments) that will be accomplished with grant funds and prioritizes the list of applicants from each requesting State. This program is designed to promote coordination and collaboration in emergency preparedness activities among public and private community representatives, State and local government agencies, and Citizen Corps Councils.

Affected Public: Not-for-profit Institutions; State, Local or Tribal Government.

Estimated Number of Respondents: 733.

Frequency of Response: On occasion.

Estimated Average Hour Burden per Respondent: 160 hours. The estimated average hour burden per respondent has changed since publication of the 60-day Federal Register Notice at 74 FR 59235, Nov. 17, 2009.

Estimated Total Annual Burden Hours: 61,525 hours. The estimated total average burden hours has changed since publication of the 60-day Federal Register Notice at 74 FR 59235, Nov. 17, 2009.

Estimated Cost: There is no annual reporting or recordkeeping costs associated with this collection.

Dated: March 16, 2010.
Larry Gray,
Director, Records Management Division, Mission Support Bureau, Federal Emergency Management Agency, Department of Homeland Security.

[FR Doc. 2010-6352 Filed 3-22-10; 8:45 am]

BILLING CODE 9111-78-P